DEPARTMENT OF ENERGY

Federal Energy Regulatory Commission

Combined Notice of Filings #2

Take notice that the Commission received the following electric rate filings:

Docket Numbers: ER11-2154-007.

Applicants: Twin Eagle Resource Management, LLC.

Description: Amendment to June 30, 2017 Triennial Market Power Update for the Northeast Region of Twin Eagle Resource Management, LLC.

Filed Date: 10/3/17.

Accession Number: 20171003-5073.

Comments Due: 5 p.m. ET 10/24/17.

Docket Numbers: ER17-2538-001.

Applicants: AEP Generation Resources Inc.

Description: Tariff Amendment: Reactive Supply and Voltage Control Stuart Amendment to be effective10/1/2017.

Filed Date: 10/3/17.

Accession Number: 20171003-5089.

Comments Due: 5 p.m. ET 10/24/17.

Docket Numbers: ER18-17-000.

Applicants: PJM Interconnection, L.L.C.

Description: Request for Limited Tariff Waiver Request of PJM Interconnection, L.L.C.

Filed Date: 10/2/17.

Accession Number: 20171002-5338.

Comments Due: 5 p.m. ET 10/23/17.

Docket Numbers: ER18-18-000.

Applicants: Arizona Public Service Company.

Description: § 205(d) Rate Filing: Navopache NITSA and NOA to be effective 10/1/2017.

Filed Date: 10/3/17.

Accession Number: 20171003-5114.

Comments Due: 5 p.m. ET 10/24/17.

Take notice that the Commission received the following electric securities filings:

Docket Numbers: ES18-1-000.

Applicants: Massachusetts Electric Company.

Description: Application under Section 204 of the Federal Power Act for Authorization to Issue Securities of Massachusetts Electric Company.

Filed Date: 10/3/17.

Accession Number: 20171003-5072.

Comments Due: 5 p.m. ET 10/24/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 3, 2017.
Nathaniel J. Davis, Sr.,
Deputy Secretary.

[FR Doc. 2017-21727 Filed 10-6-17; 8:45 am]

BILLING CODE 6717-01-P